DEPARTMENT OF HOMELAND SECURITY

Coast Guard

33 CFR Part 117

[Docket No. USCG-2014-0257]

Drawbridge Operation Regulation; Merrimack River, Groveland and Haverhill, MA

AGENCY: Coast Guard, DHS.

ACTION: Notice of deviation from drawbridge regulation.

SUMMARY: The Coast Guard has issued a temporary deviation from the operating schedule that governs the Groveland Drawbridge across the Merrimack River at mile 16.5 between Groveland and Haverhill, Massachusetts. The deviation is necessary to facilitate completion of a bridge replacement project. This temporary deviation authorizes the bridge to require a twenty-four hour advance notice for bridge openings for three months.

DATES: This deviation is effective from June 21, 2014 through September 20, 2014.

ADDRESSES: The docket for this deviation, USCG-2014-0257, is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. John McDonald, Project Officer, First Coast Guard District, telephone (617) 223-8364, email john.w.mcdonald@uscg.mil. If you have questions on viewing the docket, call Cheryl Collins, Program Manager, Docket Operations, telephone 202-366-9826.

SUPPLEMENTARY INFORMATION: The new Groveland Drawbridge across the Merrimack River at mile 16.5, between Groveland and Haverhill, has 15.9 feet of vertical clearance at mean high water and 21.61 feet of vertical clearance at mean low water. The existing drawbridge operation regulations are listed at 33 CFR 117.605(c). The waterway users are and seasonal recreational vessels of various sizes.

The owner of the bridge, Massachusetts Department of Transportation (MDOT), requested a temporary deviation from the schedule to facilitate completion of this new bridge replacement project. Upgrades to the electric motor drive system must be undertaken between June and September that were not part of the original scope of work.

The bridge is presently manually operated pending upgrades to the drive system and requires a crew of seven to open and close the draw. During the final phase of construction the labor force will be less than seven laborers presently necessary to operate the bridge.

Allowing the bridge owner to require a twenty-four hour advance notice for bridge openings would provide sufficient time for the bridge owner to get the necessary crew members at the bridge to open and close the bridge.

The bridge rarely opens historically during the time period this temporary deviation will be in effect.

Under this temporary deviation the Groveland Drawbridge may require at least a twenty-four hour advance notice for bridge openings from June 21, 2014 through September 20, 2014. Requests for bridge openings may be made by calling the numbers posted at the bridge, (978) 465-8301 or 1-800-227-0608. There are no alternate routes for vessel traffic to take; however, there have been few requests to open the bridge historically.

The Coast Guard will also inform the users of the waterways through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: April 11, 2014.
C.J. Bisignano,
Supervisory Bridge Management Specialist, First Coast Guard District.

[FR Doc. 2014-09065 Filed 4-21-14; 8:45 am]

BILLING CODE 9110-04-P